DEPARTMENT OF EDUCATION

Office of Elementary and Secondary Education; Overview Information; Advanced Placement Incentive Program; Notice Inviting Applications for New Awards for Fiscal Year (FY) 2008

Catalog of Federal Domestic Assistance (CFDA) Number: 84.330C.

DATES: Applications Available: May 7, 2008.

Deadline for Notice of Intent To Apply: June 6, 2008.

Deadline for Transmittal of Applications: July 7, 2008.

Deadline for Intergovernmental Review: September 4, 2008.

Full Text of Announcement

I. Funding Opportunity Description

Purpose of Program: The Advanced Placement Incentive (API) program awards competitive grants designed to increase the successful participation of low-income students in advanced placement courses and tests. The program expands opportunities for low-income students to take college-level classes and earn college credit while still in high school. The program also supports efforts to raise the rigor of the academic curriculum for all students attending high-poverty high schools.

Priority: In accordance with 34 CFR 75.105(b)(2)(iv), this priority is from section 1705(c) of the ESEA (20 U.S.C 6535(c)).

Absolute Priority: For FY 2008 and any subsequent year in which we make awards from the list of unfunded applicants from this competition, this priority is an absolute priority. Under 34 CFR 75.105(c)(3) we consider only applications that meet this priority.

This priority is:

Implementation of Advanced Placement Programs in High-Poverty Schools.

This priority supports projects that expand access for low-income individuals to advanced placement programs by:

(1) Developing, enhancing, or expanding advanced placement programs in English, mathematics, and science in high schools with a high concentration of low-income students and a pervasive need for access to advanced placement programs;

(2) Involving business and community organizations in the activities to be assisted; and

(3) Providing matching funds from State, local, or other sources to pay for the costs of activities to be assisted.

Note: In order to meet this absolute priority, an application must identify the specific high schools that will receive project services, and provide evidence that those schools have a high concentration of low-income students.

Competitive Preference Priorities: Within this absolute priority, we give competitive preference to applications that address the following priorities.

Competitive Preference Priority 1: This priority is from the notice of final priorities for discretionary grant programs published in the Federal Register on October 11, 2006 (71 FR 60045).

Under 34 CFR 75.105(c)(2)(i) we award up to an additional 4 points to an application, depending on how well the application meets this priority.

This priority is:

Critical-Need Languages.

This priority supports projects that support activities to enable students to achieve proficiency or advanced proficiency or to develop programs in one or more of the following less commonly taught languages: Arabic, Chinese, Korean, Japanese, Russian, and languages in the Indic, Iranian, and Turkic language families.

Competitive Preference Priority 2: In accordance with 34 CFR 75.105(b)(2)(iv), this priority is from section 1705(c) of the ESEA (20 U.S.C. 6535(c)).

Under 34 CFR 75.105(c)(2)(i) we award an additional 1 point to an application that meets this priority.

This priority is:

On-Line Advanced Placement Courses.

This priority supports projects that demonstrate an intent to carry out activities to increase the availability of, and participation in, on-line advanced placement courses.

Within this absolute priority, we are particularly interested in applications that address the following invitational priority.

Invitational Priority: For FY 2008 and any subsequent year in which we make awards from the list of unfunded applicants from this competition, this priority is an invitational priority. Under 34 CFR 75.105(c)(1), we do not give an application that meets this invitational priority a competitive or absolute preference over other applications.

This priority is:

Training and Incentives for Advanced Placement Teachers.

This priority supports projects that seek to increase the successful participation of low-income individuals in advanced placement courses and tests by:

(1) Compensating teachers of advanced placement courses for completing intensive professional development that enhances their knowledge of the advanced placement subjects they teach; and

(2) Providing financial incentives that reward teachers of advanced placement courses for the successful performance of their students on advanced placement tests.

Program Authority: 20 U.S.C. 6535-6537.

Applicable Regulations: (a) The Education Department General Administrative Regulations (EDGAR) in 34 CFR parts 74, 75, 77, 79, 80, 81, 82, 84, 85, 97, 98, and 99. (b) The notice of final priorities for discretionary grant programs published in the Federal Register on October 11, 2006 (71 FR 60045).

II. Award Information

Type of Award: Discretionary grants.

Estimated Available Funds: $12,400,000.

Contingent upon the availability of funds and the quality of applications, we may make additional awards in FY 2009 from the list of unfunded applicants from this competition.

Estimated Range of Awards: $93,040-975,163.

Estimated Average Size of Awards: $590,476.

Maximum Award: We will reject any application that proposes a budget exceeding $1,000,000 for a single budget period of 12 months. The Assistant Secretary for Elementary and Secondary Education may change the maximum amount through a notice published in the Federal Register .

Estimated Number of Awards: 21.

Note: The Department is not bound by any estimates in this notice.

Project Period: Up to 36 months.

III. Eligibility Information

1. Eligible Applicants:

(a) State educational agencies (SEAs);

(b) Local educational agencies (LEAs), including charter schools that are considered LEAs under State law; or

(c) National nonprofit educational entities with expertise in advanced placement services.

Note: In the case of an eligible entity that is an SEA, the SEA may use API grant funds to award subgrants to LEAs to enable those LEAs to carry out authorized activities that support the absolute priority for this competition.

2. a. Cost Sharing or Matching: In order to meet the absolute priority for this competition, an applicant must provide matching funds from State, local, or other sources to pay for the costs of activities to be assisted.

b. Supplement-Not-Supplant: Funds provided under this program must be used only to supplement, and not supplant, other non-Federal funds that are available to assist low-income individuals in paying advanced placement test fees or to expand access to advanced placement or pre-advanced placement courses (20 U.S.C. 6536). This restriction also has the effect of allowing projects to recover indirect costs only on the basis of a restricted indirect cost rate, according to the requirements in 34 CFR 75.563 and 34 CFR 76.564 through 76.569.

3. Other: Definitions. The following definitions are taken from the API program authorizing statute in Title I, Part G of the ESEA (20 U.S.C. 6537). They are repeated in this application notice for the convenience of the applicant.

(a) The term advanced placement test means an advanced placement test administered by the College Board or approved by the Secretary.

Note: The Department approves advanced placement tests administered by the International Baccalaureate Organization. As part of the grant application process, applicants may request approval of tests from other educational entities that provide comparable programs of rigorous academic courses and testing through which students may earn college credit.

(b) The term high concentration of low-income students, used with respect to a school, means a school that serves a student population 40 percent or more of whom are low-income individuals.

(c) The term low-income individual means an individual who is determined by an SEA or LEA to be a child, ages 5 through 19, from a low-income family on the basis of data used by the Secretary to determine allocations under section 1124 of the ESEA, data on children eligible for free or reduced-price lunches under the National School Lunch Act, data on children in families receiving assistance under Part A of Title IV of the Social Security Act, or data on children eligible to receive medical assistance under the Medicaid program under Title XIX of the Social Security Act, or through an alternate method that combines or extrapolates from those data.

IV. Application and Submission Information

1. Address to Request Application Package: You can obtain an application package via the Internet, or from the program office.

To obtain a copy via the Internet, use the following address: http://www.ed.gov/fund/grant/apply/grantapps/index.html.

To obtain a copy from the program office, contact: Ivonne Jaime, U.S. Department of Education, 400 Maryland Avenue, SW., LBJ Building, Room 3W246, Washington, DC 20202-6200. Telephone: (202) 260-1519 or by e-mail: AdvancedPlacementProgram@ed.gov.

If you use a telecommunications device for the deaf (TDD), call the Federal Relay Service (FRS), toll free, at: 1-800-877-8339.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for this program.

Page Limit: The application narrative is where you, the applicant, address the selection criteria that reviewers use to evaluate your application. We encourage you to limit the narrative to the equivalent of no more than 40 pages and suggest that you use the following standards:

• A “page” is 8.5″ × 11″, on one side only, with 1″ margins at the top, bottom, and both sides.

• Double space (no more than three lines per vertical inch) all text in the application narrative. Titles, headings, footnotes, quotations, references, and captions, as well as text in charts, tables, figures, and graphs, can be single spaced.

• Use a font that is either 12 point or larger or no smaller than 10 pitch (characters per inch).

• Use one of the following fonts: Times New Roman, Courier, Courier New, or Arial.

• Number all pages consecutively using the style 1 of 40, 2 of 40, and so forth.

• Include a Table of Contents with page references.

The suggested page limit does not apply to the Table of Contents; forms; the budget section, including the narrative budget justification; the assurances and certifications; the one-page abstract; the resumes; or letters of support. However, the suggested page limit does apply to all of the application narrative section. We further encourage applicants to limit to no more than 20 pages any attachments or appendices that are not resumes or letters of support.

3. Submission Dates and Times:

Applications Available: May 7, 2008.

Deadline for Notice of Intent to Apply: June 6, 2008. We will be able to develop a more efficient process for reviewing grant applications if we have a better understanding of the number of entities that intend to apply for funding.

Therefore, we strongly encourage each potential applicant to send a notification of its intent to apply for funding to AdvancedPlacementProgram@ed.gov by June 6, 2008. The notification of intent to apply for funding is optional. Applicants that do not supply this e-mail notification may still apply for funding.

Deadline for Transmittal of Applications: July 7, 2008.

Applications for grants under this competition must be submitted electronically using the Grants.gov Apply site (Grants.gov). For information (including dates and times) about how to submit your application electronically, or in paper format by mail or hand delivery if you qualify for an exception to the electronic submission requirement, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: September 4, 2008.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this competition must be submitted electronically unless you qualify for an exception to this requirement in accordance with the instructions in this section.

a. Electronic Submission of Applications.

Applications for grants under the Advanced Placement Incentive Program, CFDA Number 84.330C, must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Advanced Placement Incentive Program at http://www.Grants.gov. You must search for the downloadable application package for this competition by the CFDA number. Do not include the CFDA number's alpha suffix in your search (e.g., search for 84.330, not 84.330C).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp ). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Ivonne Jaime, U.S. Department of Education, 400 Maryland Avenue, SW., LBJ Building, Room 3W246, Washington, DC 20202-6200. FAX: (202) 205-4921.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service:

U.S. Department of Education, Application Control Center, Attention: (CFDA Number 84.330C), 400 Maryland Avenue, SW., Washington, DC 20202-4260 or

By mail through a commercial carrier:U.S. Department of Education, Application Control Center, Stop 4260, Attention: (CFDA Number 84.330C), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.330C), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for this competition are from 34 CFR 75.210 and, where otherwise noted, sections 1702 and 1705 of the ESEA (20 U.S.C. 6532 and 6535).

Note: The maximum score for all selection criteria is 95 points. The points or weights assigned to each criterion or subcriterion are indicated in parentheses.

Need for the Project

In determining need for the proposed project, we will consider the following factors:

(1) The extent to which the application demonstrates a pervasive need for access to advanced placement incentive programs by low-income individuals (5 points) (20 U.S.C. 6535(c)(1)); and

(2) The extent to which specific gaps or weaknesses in services, infrastructure, or opportunities have been identified and will be addressed by the proposed project, including the nature and magnitude of those gaps or weaknesses (10 points).

Quality of Project Design

In determining the quality of the design of the proposed project, we will consider the following factors:

(1) The extent to which the goals, objectives, and outcomes to be achieved by the proposed project are clearly specified and measurable (5 points);

(2) The extent to which the proposed project will increase the rate at which secondary school students participate in advanced placement courses and increase the numbers of students who receive advanced placement test scores for which college academic credit is awarded (20 points) (20 U.S.C. 6532(7));

(3) The extent to which the proposed activities constitute a coherent, sustained program of training in the field (15 points); and

(4) The extent to which there is effective coordination and articulation between grade levels to prepare students for academic achievement in advanced placement courses (15 points) (20 U.S.C. 6535(d)(C)).

Quality of the Management Plan

In determining the quality of the management plan for the proposed project, we will consider the following factors:

(1) The adequacy of the management plan to achieve the objectives of the proposed project on time and within budget, including clearly defined responsibilities, timelines, and milestones for accomplishing project tasks (8 points);

(2) The extent to which the time commitments of the project director and principal investigator and other key project personnel are appropriate and adequate to meet the objectives of the proposed project (5 points); and

(3) The extent to which the applicant demonstrates that it will have the capacity to report annually the data required by section 1705(f) of the ESEA (4 points).

Adequacy of Resources

In determining the adequacy of resources for the proposed project, we will consider the extent to which the applicant assures the availability of matching funds from State, local, or other sources to pay for the cost of activities to be assisted by the proposed project (20 U.S.C. 6535(c)(3))(8 points).

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Grant Administration: Applicants should budget for a two-day meeting for project directors to be held annually in Washington, DC. In addition to setting aside funds for travel, hotel, and per diem costs for these meetings, applicants should budget for an estimated $500 per participant for the costs of materials and technical assistance products and services that will be delivered during these meetings.

4. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to: http://www.ed.gov/fund/grant/apply/appforms/appforms.html.

5. Performance Measures: The Department has established six performance measures for assessing the effectiveness of the API program in improving the successful participation in advanced placement courses and tests by students attending public high schools served by API grants. These measures are:

(1) The number of students who enrolled in an advanced placement course at each school served by an API grant, disaggregated by subject.

(2) The number of low-income individuals who enrolled in an advanced placement course at each school served by an API grant, disaggregated by subject.

(3) The number of advanced placement tests taken by students at each school served by an API grant, disaggregated by subject, divided by the number of seniors enrolled in each school at or around October 1.

(4) The number of advanced placement tests taken by low-income individuals at each school served by an API grant, disaggregated by subject.

(5) The scores students at each school served by an API grant earned on advanced placement tests, disaggregated by subject.

(6) The scores low-income individuals at each school served by an API earned on advanced placement tests, disaggregated by subject.

These measures constitute the Department's measures of success for this program. Consequently, applicants for a grant under this program are advised to give careful consideration to these measures in identifying their goals and objectives and conceptualizing the approach and evaluation of their proposed projects. If funded, applicants will be asked to collect and report data in their performance and final reports about progress toward these measures.

VII. Agency Contact

FOR FURTHER INFORMATION CONTACT: Ivonne Jaime, U.S. Department of Education, 400 Maryland Avenue, SW., LBJ Building, Room 3W246, Washington, DC 20202-6200. Telephone: (202) 260-1519 or by e-mail: AdvancedPlacementProgram@ed.gov.

If you use a TDD, call the FRS, toll free, at 1-800-877-8339.

VIII. Other Information

Alternative Format: Individuals with disabilities can obtain this document and a copy of the application package in an alternative format (e.g., Braille, large print, audiotape, or computer diskette) on request to the program contact person listed under FOR FURTHER INFORMATION CONTACT in section VII in this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 2, 2008.
Kerri L. Briggs,
Assistant Secretary for Elementary and Secondary Education.

[FR Doc. E8-10106 Filed 5-6-08; 8:45 am]

BILLING CODE 4000-01-P